EQUAL EMPLOYMENT OPPORTUNITY COMMISSION

29 CFR Part 1611

Privacy Act Fee Schedule

AGENCY: Equal Employment Opportunity Commission.

ACTION: Final rule.

SUMMARY: The Equal Employment Opportunity Commission (EEOC or the Commission) is adopting revisions to its Privacy Act fee schedule. The updated schedule of fees conforms to EEOC's Freedom of Information Act (FOIA) fee schedule which was recently updated (70 FR 57510 of October 3, 2005).

DATES: Effective Date: March 7, 2006.

FOR FURTHER INFORMATION CONTACT: Thomas J. Schlageter, Assistant Legal Counsel, or Michelle Zinman, Senior General Attorney at (202) 663-4640 (voice) or (202) 663-7026 (TTY). This notice of final rule is also available in the following formats: Large print, Braille, audiotape and electronic file on computer disk. Requests for this notice of final rule in an alternative format should be made to EEOC's Publication Center at 1-800-669-3362.

SUPPLEMENTARY INFORMATION: On December 12, 2005, at 70 FR 73413, the EEOC published a notice of proposed rulemaking proposing to amend 29 CFR 1611.11 which concerns the fees assessed to persons who request records under the Privacy Act, 5 U.S.C. 552a. The changes conform the fees charged under the Privacy Act to the fees charged under the FOIA. See 29 CFR 1610.15, as amended by 70 FR 57510 (2005). Comments from the public were due on or before January 11, 2006. No comments were received. Therefore, EEOC is adopting the proposed revisions, without change, as its final rule.

Regulatory Procedures

Executive Order 12866

Pursuant to Executive Order 12866, EEOC has determined that the regulation will not have an annual effect on the economy of $100 million or more or adversely affect in a material way the economy, a sector of the economy, productivity, competition, jobs, the environment, public health or safety, or State or local tribal governments or communities. Therefore, a detailed cost-benefit assessment of the regulation is not required.

Paperwork Reduction Act

This rule contains no new information collection requirements subject to review by the Office of Management and Budget under the Paperwork Reduction Act (44 U.S.C. Chapter 35).

Regulatory Flexibility Act

The Commission, in accordance with the Regulatory Flexibility Act (5 U.S.C. 606(b)), has reviewed this regulation and by approving it certifies that this regulation will not have a significant economic impact on a substantial number of small entities.

Unfunded Mandates Reform Act of 1995

This rule will not result in the expenditure by State, local, or tribal governments, in the aggregate, or by the private sector, of $100 million or more in any one year, and it will not significantly or uniquely affect small governments. Therefore, no actions were deemed necessary under the provisions of the Unfunded Mandates Reform Act of 1995.

List of Subjects in 29 CFR Part 1611

Privacy Act.

Dated: March 1, 2006.
For the Commission.
Cari M. Dominguez,
Chair.

Accordingly, for the reasons set forth in the preamble, EEOC amends 29 CFR part 1611 as follows:

PART 1611—PRIVACY ACT REGULATIONS

1. The authority citation for part 1611 continues to read as follows:

Authority: 5 U.S.C. 552a.

2. Section 1611.11 is revised to read as follows:

§ 1611.11 Fees.

(a) No fee shall be charged for searches necessary to locate records. No charge shall be made if the total fees authorized are less than $1.00. Fees shall be charged for services rendered under this part as follows:

(1) For copies made by photocopy—$0.15 per page (maximum of 10 copies). For copies prepared by computer, such as tapes or printouts, EEOC will charge the direct cost incurred by the agency, including operator time. For other forms of duplication, EEOC will charge the actual costs of that duplication.

(2) For attestation of documents—$25.00 per authenticating affidavit or declaration.

(3) For certification of documents—$50.00 per authenticating affidavit or declaration.

(b) All required fees shall be paid in full prior to issuance of requested copies of records. Fees are payable to “Treasurer of the United States.”

[FR Doc. 06-2113 Filed 3-6-06; 8:45 am]

BILLING CODE 6570-01-P